ENVIRONMENTAL PROTECTION AGENCY

40 CFR Part 52

[EPA-R08-OAR-2005-ND-0002; FRL-8011-2]

Clean Air Act Approval and Promulgation of Air Quality Implementation Plan Revision for North Dakota; Revisions to the Air Pollution Control Rules; Delegation of Authority for New Source Performance Standards

AGENCY: Environmental Protection Agency (EPA).

ACTION: Proposed rule.

SUMMARY: EPA is proposing to take direct final action approving certain revisions to the State Implementation Plan (SIP) as submitted by the Governor of North Dakota with a letter dated April 11, 2003. The revisions affect certain portions of air pollution control rules regarding permitting and prevention of significant deterioration. EPA is also providing notice that on July 27, 2005, North Dakota was delegated authority to implement and enforce certain New Source Performance Standards, as of January 31, 2004. In the “Rules and Regulations” section of this Federal Register, EPA is approving the State's SIP revision as a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

DATES: Written comments must be received on or before February 23, 2006.

ADDRESSES: Submit your comments, identified by Regional Material in EDOCKET (RME) ID Number R08-OAR-2005-ND-0002, by one of the following methods:

• Federal eRulemaking Portal: http://www.regulations.gov. Follow the on-line instructions for submitting comments.

• Agency Web site: http://docket.epa.gov/rmepub/. On November 28, 2005, Regional Material in EDOCKET (RME), EPA's electronic public docket and comment system, was replaced by an enhanced federal-wide electronic docket management and comment system located at http://www.regulations.gov. Therefore, you will be redirected to that site to access the docket EPA-R08-OAR-2005-ND-0002 and submit comments. Follow the on-line instructions for submitting comments.

• E-mail: long.richard@epa.gov and platt.amy@epa.gov.

• Fax: (303) 312-6064 (please alert the individual listed in the FOR FURTHER INFORMATION CONTACT if you are faxing comments).

• Mail: Richard R. Long, Director, Air and Radiation Program, Environmental Protection Agency (EPA), Region 8, Mailcode 8P-AR, 999 18th Street, Suite 200, Denver, Colorado 80202-2466.

• Hand Delivery: Richard R. Long, Director, Air and Radiation Program, EPA Region 8, Mailcode 8P-AR, 999 18th Street, Suite 200, Denver, Colorado 80202-2466. Such deliveries are only accepted Monday through Friday, 8 a.m. to 4:55 p.m., excluding Federal holidays. Special arrangements should be made for deliveries of boxed information.

Please see the direct final rule which is located in the Rules Section of this Federal Register for detailed instructions on how to submit comments.

FOR FURTHER INFORMATION CONTACT: Amy Platt, Environmental Protection Agency, Region 8, 999 18th Street, Suite 200, Denver, CO 80202-2466, (303) 312-6449, platt.amy@epa.gov.

SUPPLEMENTARY INFORMATION: See the information provided in the Direct Final action of the same title which is located in the Rules and Regulations Section of this Federal Register.

Authority: 42 U.S.C. 7401 et seq.

Dated: December 7, 2005.
Kerrigan G. Clough,
Acting Regional Administrator, Region 8.

[FR Doc. 06-628 Filed 1-23-06; 8:45 am]

BILLING CODE 6560-50-P